DEPARTMENT OF COMMERCE

Census Bureau

[Docket Number: 240620-0168]

X-RIN 0607-XC077

American Community Survey Agricultural Sales and Farm Indicator Data

AGENCY: Census Bureau, Department of Commerce.

ACTION: Notice of request for comments.

SUMMARY: The American Community Survey (ACS) is a continuous survey conducted by the U.S. Census Bureau, gathering detailed housing and socioeconomic data from around 3.54 million addresses in the U.S. and about 36,000 addresses in Puerto Rico annually. It replaces the long-form census previously done once a decade, providing crucial statistics for governmental, non-profit, business, and public decision-making at various levels. To enhance efficiency and reduce respondent burden, the ACS is increasingly utilizing administrative and third-party data sources. The Census Bureau is considering using such data to replace the agricultural sales question, which has implications for federal programs and economic analysis. The proposal explores several data sources to classify properties as farms or non-farms. The Department of Commerce invites the public to comment on the proposed research to determine whether data other than survey responses can be used effectively to replace agricultural sales data currently provided by the Census Bureau that has been obtained from responses to the ACS.

DATES: To ensure consideration, comments must be received on or before August 19, 2024.

ADDRESSES: Interested persons are invited to submit written comments by email to acso.pra@census.gov. Please reference ACS Agricultural Sales in the subject line of your comments. All comments received are part of the public record. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Elizabeth Poehler, ADC for Survey Methods, U.S. Census Bureau, 301-763-9305, elizabeth.poehler@census.gov.

SUPPLEMENTARY INFORMATION:

I. Background

The American Community Survey (ACS) is an ongoing monthly survey that collects detailed housing and socioeconomic data from a sample of about 3.54 million addresses in the 50 states and the District of Columbia and about 36,000 addresses in Puerto Rico each year, where it is known as the Puerto Rico Community Survey (PRCS). The ACS also collects detailed socioeconomic data from about 170,900 residents living in group quarters (GQ) facilities in the United States and Puerto Rico. Resulting tabulations from this data collection are provided every year. The ACS allows the U.S. Census Bureau to provide timely and relevant housing and socioeconomic statistics, even for small geographic areas.

The Census Bureau developed the ACS to collect and update demographic, social, economic, and housing data every year that are essentially the same as the “long-form” data that the Census Bureau formerly collected once a decade as part of the decennial census. Federal and state government agencies use such data to evaluate and manage federal programs and to distribute funding for various programs that include food stamp benefits, transportation dollars, and housing grants. State, county, tribal, and community governments, nonprofit organizations, businesses, and the general public use information such as housing quality, income distribution, journey-to-work patterns, immigration data, and regional age distributions for decision-making and program evaluation. The ACS is now the only source of comparable data about social, economic, housing, and demographic characteristics for small areas and small subpopulations across the nation and in Puerto Rico.

The ACS program provides estimates annually for all states and all medium and large cities, counties, and metropolitan areas. For smaller areas and population groups, it takes five years to accumulate enough data to provide reliable estimates. Every community in the nation continues to receive a detailed, statistical portrait of its social, economic, housing, and demographic characteristics each year through one-year and five-year ACS products.

The ACS collects detailed socioeconomic data on over 40 topics. The list of topics and questions can be found here: https://www.census.gov/library/publications/2018/dec/planned-questions-2020-acs.html.

The Census Bureau collects these data under the authority of Title 13, United States Code, Sections 141, 193, 221, and 223. By that same law, the Census Bureau is obligated to use existing information that has already been collected by other government agencies, whenever possible, instead of asking for such information directly from the public.

Following the Census Bureau's strategic plan and transformation initiative to change our focus from being a survey-centric data provider to a data product-focused provider of information, the ACS program has made it a priority to use alternative data sources and expand the use of administrative and third-party data to meet customer needs and reduce the dependency on traditional methods of data collection. The expanded use of administrative and third-party data in the ACS is expected to reduce data collection costs, improve operational efficiency, reduce respondent burden, and improve the quality of ACS data products. The Census Bureau has begun to explore the use of administrative and third-party data in a variety of ways for various topics on the ACS.

Beginning in January 2024, we implemented an adaptive approach for collecting data on property lot size (acreage) that uses administrative property tax data purchased from a third-party vendor. We analyzed the quality of the property tax data for acreage and developed business rules for using the data. The acreage question is skipped when administrative data are available.

Research is underway to determine how administrative and third-party data can be used for other topics on the ACS. This program announcement is specifically related to using administrative and third-party data for the agricultural sales question.

The agricultural sales question was introduced in 1960 on the Decennial Census housing questionnaire. The question was transferred to the ACS when the ACS replaced the Decennial Census long-form in 2005. The question is asked of people living in single-family attached and detached housing units and mobile homes built on at least one acre of land.

In the past 12 months, what were the actual sales of all agricultural products from this property?

None

$1 to $999

$1,000 to $2,499

$2,500 to $4,999

$5,000 to $9,999

$10,000 or more

The U.S. Bureau of Economic Analysis (BEA) uses data from this question to aid in calculations for its data release on National Income and Product Accounts (NIPAs). The BEA uses the data to create a distinction between farm and non-farm properties. They define farms as properties reporting agricultural product sales of $1,000 or more in the past 12 months; the remaining properties are classified as non-farms.

Data from this question are also used in editing and imputation procedures by the Census Bureau for employment and income.

The Census Bureau releases data on agricultural sales on the ACS Public Use Microdata Sample (PUMS) file; data on agricultural sales are not included in any ACS tabulations on data.census.gov.

II. Proposal

For a question to be included in the ACS, there must be a legally cited federal need for the data. Currently, BEA's use of these data is the only known federally required use. The Census Bureau proposes exploring using administrative and third-party data to satisfy BEA's data need instead of asking the public the agricultural sales question. This project proposes using administrative and third-party data from multiple sources to create a variable that classifies ACS sample addresses as farms or non-farms. The data sources under consideration include tax assessment records on property and land use, parcel boundary data from property tax records, survey data, Internal Revenue Service (IRS) Form 1040 Schedule F data on profit or loss from farming, and land cover data based on satellite imagery. Data will be assessed for quality and a farm indicator will be formulated through statistical modeling and business rules. The resulting indicator will be evaluated at the microdata level and against current tabulated estimates.

The proposed farm indicator could also replace the current agricultural sales data used in the Census Bureau's editing and imputation procedures for employment and income data.

After research is conducted, a report will be made public on the Census Bureau's website. The ACS is not expected to be changed before 2026. In accordance with the Paperwork Reduction Act, additional Federal Register notices with the opportunity for public comment will be published in the Federal Register before a change is implemented.

III. Request for Comments

We are soliciting public comments to identify additional stakeholders that use the current Agricultural Sales data on the ACS PUMS file. We are also interested in feedback about the proposed research.

Comments you submit in response to this notice are a matter of public record. Before including your address, phone number, email address, or other personal identifying information in your comment, you should be aware that your entire comment—including your personal identifying information—may be made publicly available at any time. While you may ask us in your comment to withhold your personal identifying information from public review, we cannot guarantee that we will be able to do so.

Robert L. Santos, Director, Census Bureau, approved the publication of this Notice in the Federal Register.

Dated: June 26, 2024.
Shannon Wink,
Program Analyst, Policy Coordination Office, U.S. Census Bureau.

[FR Doc. 2024-14633 Filed 7-2-24; 8:45 am]

BILLING CODE 3510-07-P